Title 3—

The President

Notice of March 5, 2020

Continuation of the National Emergency With Respect to Venezuela

On March 8, 2015, the President issued Executive Order 13692, declaring a national emergency with respect to the situation in Venezuela based on the Government of Venezuela's erosion of human rights guarantees; persecution of political opponents; curtailment of press freedoms; use of violence and human rights violations and abuses in response to antigovernment protests; and arbitrary arrest and detention of antigovernment protestors, as well as the exacerbating presence of significant government corruption.

On August 24, 2017, I issued Executive Order 13808 to take additional steps, with respect to the national emergency declared in Executive Order 13692, to address serious abuses of human rights and fundamental freedoms; the deepening humanitarian crisis in Venezuela; the establishment of an illegitimate Constituent Assembly, which usurped the power of the democratically elected National Assembly and other branches of the Government of Venezuela; rampant public corruption; and ongoing repression and persecution of, and violence toward, the political opposition.

On March 19, 2018, I issued Executive Order 13827 to take additional steps, with respect to the national emergency declared in Executive Order 13692, to address actions taken by the Maduro regime to attempt to circumvent United States sanctions by issuing a digital currency in a process that Venezuela's democratically-elected National Assembly denounced as unlawful.

On May 21, 2018, I issued Executive Order 13835 to take additional steps, with respect to the national emergency declared in Executive Order 13692, to address actions of the Maduro regime, including endemic economic mismanagement and public corruption at the expense of the Venezuelan people and their prosperity, and repression of the political opposition; attempts to undermine democratic order by holding snap elections that were neither free nor fair; and the deepening humanitarian and public health crisis in Venezuela.

On November 1, 2018, I issued Executive Order 13850 to take additional steps, with respect to the national emergency declared in Executive Order 13692, to address actions by the Maduro regime and associated persons to plunder Venezuela's wealth for their own corrupt purposes; degrade Venezuela's infrastructure and natural environment through economic mismanagement and confiscatory mining and industrial practices; and catalyze a regional migration crisis by neglecting the basic needs of the Venezuelan people.

On January 25, 2019, I issued Executive Order 13857 to take additional steps, with respect to the national emergency declared in Executive Order 13692, to address actions by persons affiliated with the illegitimate Maduro regime, including human rights violations and abuses in response to anti-Maduro protests; arbitrary arrest and detention of anti-Maduro protestors; curtailment of press freedom; harassment of political opponents; and continued attempts to undermine the Interim President of Venezuela and undermine the National Assembly, the only legitimate branch of government duly elected by the Venezuelan people, and to prevent the Interim President and the National Assembly from exercising legitimate authority in Venezuela.

On August 5, 2019, I issued Executive Order 13884 that imposed a full economic block on the Government of Venezuela, with respect to the national emergency declared in Executive Order 13692, for its continued human rights abuses, including the arbitrary or unlawful arrest and detention of Venezuelan citizens, interference with freedom of expression, including for members of the media, and ongoing attempts to undermine the Interim President of Venezuela and Venezuelan National Assembly's exercise of legitimate authority in Venezuela.

The circumstances described in Executive Order 13692, and subsequent Executive Orders issued with respect to Venezuela, have not improved, and these circumstances in Venezuela continue to pose an unusual and extraordinary threat to the national security and foreign policy of the United States. Therefore, in accordance with section 202(d) of the National Emergencies Act (50 U.S.C. 1622(d)), I am continuing for 1 year the national emergency declared in Executive Order 13692.

This notice shall be published in the Federal Register and transmitted to the Congress.

THE WHITE HOUSE,

March 5, 2020.

[FR Doc. 2020-04822

Filed 3-5-20; 11:15 am]

Billing code 3295-F0-P